DEPARTMENT OF COMMERCE

International Trade Administration

[A-570-180, C-570-181]

Hexamethylenetetramine From the People's Republic of China: Antidumping Order and Countervailing Duty Order

AGENCY: Enforcement and Compliance, International Trade Administration, Department of Commerce.

SUMMARY: Based on affirmative final determinations by the U.S. Department of Commerce (Commerce) and the U.S. International Trade Commission (ITC), Commerce is issuing antidumping duty (AD) and countervailing duty (CVD) orders on hexamethylenetetramine (hexamine) from the People's Republic of China (China).

DATES: Applicable September 11, 2025.

FOR FURTHER INFORMATION CONTACT: Thomas Cloyd (AD) or Eliza DeLong (CVD), AD/CVD Operations, Offices VII and V, Enforcement and Compliance, International Trade Administration, U.S. Department of Commerce, 1401 Constitution Avenue NW, Washington, DC 20230; telephone: (202) 482-1246 and (202) 482-3878, respectively.

SUPPLEMENTARY INFORMATION:

Background

In accordance with sections 705(d), 735(d), and 777(i) of the Tariff Act of 1930, as amended (the Act), on July 18, 2025, Commerce published its affirmative final determinations of sales at less than fair value (LTFV) of hexamine from China,¹ and its affirmative final determination that countervailable subsidies are being provided to producers and exporters of hexamine from China.²

¹ See Hexamethylenetetramine from the People's Republic of China: Final Affirmative Determination of Sales at Less-Than-Fair-Value, 90 FR 33922 (July 18, 2025) (LTFV Final Determination).

² See Hexamethylenetetramine from the People's Republic of China: Final Affirmative Countervailing Duty Determination and Final Affirmative Determination, 90 FR 33923 (July 18, 2025).

On September 3, 2025 pursuant to sections 705(d) and 735(d) of the Act, the ITC notified Commerce of its final affirmative determinations that an industry in the United States is materially injured by reason of dumped imports of hexamine from China, and subsidized imports of hexamine from China, within the meaning of sections 705(b)(1)(A)(i) and 735(b)(1)(A)(i) of the Act.³

³ See ITC's Letter, “Notification of ITC Final Determinations,” dated September 3, 2025 (ITC Notification Letter).

Scope of the Orders

The product covered by these orders is hexamine from China. For a complete description of the scope of the orders, see the Appendix to this notice.

AD Order

On September 3, 2025, in accordance with section 735(d) of the Act, the ITC notified Commerce of its final determination that an industry in the United States is materially injured within the meaning of section 735(b)(1)(A)(i) of the Act by reason of imports of hexamine from China that are sold in the United States at LTFV.⁴ Therefore, in accordance with section 735(c)(2) and 736 of the Act, Commerce is issuing this AD order. Because the ITC determined that imports of hexamine from China are materially injuring a U.S. industry, unliquidated entries of such merchandise from China, entered or withdrawn from warehouse for consumption, are subject to the assessment of antidumping duties.

⁴ Id.

Therefore, in accordance with section 736(a)(1) of the Act, Commerce will direct U.S. Customs and Border Protection (CBP) to assess, upon further instruction by Commerce, antidumping duties equal to the amount by which the normal value of the merchandise exceeds the export price (or constructed export price) of the merchandise on all relevant entries of hexamine from China. Antidumping duties will be assessed on unliquidated entries of hexamine entered, or withdrawn from warehouse, for consumption on or after May 6, 2025, the date of publication of the LTFV Preliminary Determination,⁵ but will not include entries occurring after the expiration of the provisional measures period and before publication of the ITC's final injury determination, as further described below.

⁵ See Hexamethylenetetramine from the People's Republic of China: Preliminary Affirmative Determination of Sales at Less Than Fair Value 90 FR 19182 (May 6, 2025) (LTFV Preliminary Determination).

Continuation of Suspension of Liquidation and Cash Deposits—AD

Except as noted in the “Provisional Measures—AD” section of this notice, Commerce intends to instruct CBP to continue to suspend liquidation on all relevant entries of hexamine from China, in accordance with section 736 of the Act. These instructions suspending liquidation will remain in effect until further notice.

Commerce also intends to instruct CBP to require cash deposits equal to the estimated weighted-average dumping margin indicated in the table below, adjusted by the relevant subsidy offsets. Accordingly, effective on the date of publication in the Federal Register of the notice of the ITC's final affirmative injury determination, CBP must require, at the same time as importers would normally deposit estimated customs duties on subject merchandise, a cash deposit equal to the rates listed in the table below.

Estimated Weighted-Average Dumping Margins

The estimated weighted-average dumping margin is as follows:

Exporter/producer | Weighted-average dumping margin (percent) | Cash deposit rate (adjusted for subsidy offsets) (percent) ⁶
China-wide Entity | * 405.19 | 394.65
This rate is based on adverse facts available (AFA).

Provisional Measures—AD

⁶ See LTFV Final Determination.

Section 733(d) of the Act states that suspension of liquidation pursuant to an affirmative preliminary determination may not remain in effect for more than four months, except where exporters representing a significant proportion of exports of the subject merchandise request that Commerce extend the four-month period to no more than six months. In the underlying investigation, Commerce published the LTFV Preliminary Determination on May 6, 2025. Therefore, the four-month period beginning on the date of the publication of the LTFV Preliminary Determination ended on September 2, 2025. Pursuant to section 737(b) of the Act, the collection of cash deposits at the rates listed above will begin on the date of publication of the ITC's final injury determinations.

Therefore, in accordance with section 733(d) of the Act, Commerce will instruct CBP to terminate the suspension of liquidation and to liquidate, without regard to antidumping duties, unliquidated entries of hexamine from China entered, or withdrawn from warehouse, for consumption on or after September 3, 2025, the first day provisional measures were no longer in effect, until and through the day preceding the date of publication of the ITC's final injury determination in the Federal Register. Suspension of liquidation and the collection of cash deposits will resume on the date of publication of the ITC's final determination in the Federal Register.

CVD Order

As stated above, based on the ITC's final determination that an industry in the United States is materially injured within the meaning of section 705(b)(1)(A)(i) of the Act by reason of subsidized imports of hexamine from China,⁷ in accordance with section 705(c)(2) of the Act, Commerce is issuing this CVD order. Moreover, because the ITC determined that imports of hexamine from China are materially injuring a U.S. industry, unliquidated entries of subject merchandise from China entered, or withdrawn from warehouse, for consumption, are subject to the assessment of countervailing duties.

⁷ See ITC Notification Letter.

Therefore, in accordance with section 706(a) of the Act, Commerce intends to direct CBP to assess, upon further instructions by Commerce, countervailing duties on all relevant entries of hexamine from China, which are entered, or withdrawn from warehouse, for consumption on or after March 7, 2025, the date of publication of the CVD Preliminary Determination, but will not include entries occurring after the expiration of the provisional measures period and before the publication of the ITC's final injury determination under section 705(b) of the Act, as further described in the “Provisional Measures—CVD” section of this notice.⁸

⁸ See Hexamethylenetetramine from the People's Republic of China: Preliminary Affirmative Countervailing Duty Determination and Alignment of Final Determination with Final Antidumping Duty Determination, 90 FR 11508 (March 7, 2025) (CVD Preliminary Determination).

Suspension of Liquidation and Cash Deposits—CVD

In accordance with section 706 of the Act, Commerce intends to instruct CBP to reinstitute the suspension of liquidation of hexamine from China, effective on the date of publication of the ITC's final affirmative injury determination in the Federal Register, and to assess, upon further instruction by Commerce, pursuant to section 706(a)(1) of the Act, countervailing duties on each entry of subject merchandise in an amount based on the net countervailable subsidy rates below. These instructions suspending liquidation will remain in effect until further notice.

Commerce also intends, pursuant to section 706(a)(1) of the Act, to instruct CBP to require cash deposits equal to the amounts as indicated below. Accordingly, effective on the date of publication of the ITC's final injury determination in the Federal Register, CBP must require, at the same time as importers would normally deposit estimated customs duties on this merchandise, a cash deposit equal to the rates listed in the table below. The all-others rate applies to all producers or exporters not specifically listed below, as appropriate.

Estimated Countervailing Duty Subsidy Rates

The estimated countervailing duty subsidy rates are as follows:

Company | Subsidy rate (percent ad valorem)
Changzhou Highassay Chemical Co | * 420.73
China Bluestar International Chemical Co., Ltd | * 420.73
Fengchen Group Co., Ltd | * 420.73
Hutubi Ruiyuantong Chemicals Co., Ltd | * 420.73
Jiangsu Guotai Guomian Trading | * 420.73
Jiaozuo Runhua Chemical Industry Co | * 420.73
Qingdao Sun Chemical Corp. Ltd | * 420.73
All Others | 420.73
* This rate is based on AFA.

Provisional Measures—CVD

Section 703(d) of the Act states that the suspension of liquidation pursuant to an affirmative preliminary determination may not remain in effect for more than four months. Commerce published the CVD Preliminary Determination on March 7, 2025.⁹ As such, the four-month period beginning on the date of the publication of the CVD Preliminary Determination ended on July 4, 2025.

⁹ Id.

In accordance with section 703(d) of the Act, we instructed CBP to terminate the suspension of liquidation and to liquidate, without regard to countervailing duties, unliquidated entries of hexamine from China or withdrawn from warehouse, for consumption, on or after July 5, 2024, the date on which the provisional measures expired, until and through the day preceding the date of publication of the ITC's final injury determination in the Federal Register. Suspension of liquidation and the collection of cash deposits will resume on the date of publication of the ITC's affirmative final injury determination in the Federal Register.

Establishment of the Annual Inquiry Service Lists

On September 20, 2021, Commerce published the Final Rule in the Federal Register.¹⁰ On September 27, 2021, Commerce also published the Procedural Guidance in the Federal Register.¹¹ The Final Rule and Procedural Guidance provide that Commerce will maintain an annual inquiry service list for each order or suspended investigation, and any interested party submitting a scope ruling application or request for circumvention inquiry shall serve a copy of the application or request on the persons on the annual inquiry service list for that order, as well as any companion order covering the same merchandise from the same country of origin.

¹⁰ See Regulations to Improve Administration and Enforcement of Antidumping and Countervailing Duty Laws, 86 FR 52300 (September 20, 2021) (Final Rule).

¹¹ See Scope Ruling Application; Annual Inquiry Service List; and Informational Sessions, 86 FR 53205 (September 27, 2021) (Procedural Guidance).

In accordance with the Procedural Guidance, for orders published in the Federal Register after November 4, 2021, Commerce will create an annual inquiry service list segment in Commerce's online e-filing and document management system, Antidumping and Countervailing Duty Electronic Service System (ACCESS), available at https://access.trade.gov, within five business days of publication of the notice of the order. Each annual inquiry service list will be saved in ACCESS, under each case number, and under a specific segment type called “AISL-Annual Inquiry Service List.” ¹²

¹² This segment will be combined with the ACCESS Segment Specific Information (SSI) field which will display the month in which the notice of the order or suspended investigation was published in the Federal Register, also known as the anniversary month. For example, for an order under case number A-000-000 that was published in the Federal Register in January, the relevant segment and SSI combination will appear in ACCESS as “AISL-January Anniversary.” Note that there will be only one annual inquiry service list segment per case number, and the anniversary month will be pre-populated in ACCESS.

Interested parties who wish to be added to the annual inquiry service list for an order must submit an entry of appearance to the annual inquiry service list segment for the order in ACCESS within 30 days after the date of publication of the order. For ease of administration, Commerce requests that law firms with more than one attorney representing interested parties in an order designate a lead attorney to be included on the annual inquiry service list. Commerce will finalize the annual inquiry service list within five business days thereafter. As mentioned in the Procedural Guidance,¹³ the new annual inquiry service list will be in place until the following year, when the Opportunity Notice for the anniversary month of the order is published.

¹³ See Procedural Guidance, 86 FR at 53206.

Commerce may update an annual inquiry service list at any time as needed based on interested parties' amendments to their entries of appearance to remove or otherwise modify their list of members and representatives, or to update contact information. Any changes or announcements pertaining to these procedures will be posted to the ACCESS website.

Special Instructions for Petitioner and Foreign Governments

In the Final Rule, Commerce stated that, “after an initial request and placement on the annual inquiry service list, both petitioners and foreign governments will automatically be placed on the annual inquiry service list in the years that follow.” ¹⁴ Accordingly, as stated above, the petitioner and the Government of China (GOC) should submit their initial entries of appearance after publication of this notice in order to appear in the first annual inquiry service lists for these orders. Pursuant to 19 CFR 351.225(n)(3), the petitioner and the GOC will not need to resubmit their entries of appearance each year to continue to be included on the annual inquiry service list. However, the petitioner and the GOC are responsible for making amendments to their entries of appearance during the annual update to the annual inquiry service list in accordance with the procedures described above.

¹⁴ See Final Rule, 86 FR at 52335.

Notification to Interested Parties

This notice constitutes the AD order with respect to hexamine from China and the CVD order with respect to hexamine from China, pursuant to sections 706(a) and 736(a) of the Act. Interested parties can find a list of AD and CVD orders currently in effect at https://enforcement.trade.gov/stats/iastats1.html.

These orders are published in accordance with sections 706(a) and 736(a) of the Act, and 19 CFR 351.211(b).

Dated: September 8, 2025.
Christopher Abbott,
Deputy Assistant Secretary for Policy and Negotiations, performing the non-exclusive functions and duties of the Assistant Secretary for Enforcement and Compliance.

Appendix

Scope of the Orders

The scope of these orders covers hexamine in granular form, with a particle size of 5 millimeters or less, whether stabilized or unstabilized, whether or not blended, mixed, pulverized, or grounded with other products, containing 50 percent or more hexamine by weight.

Hexamine is the common name for hexamethylene tetramine (Chemical Abstract Service #100-97-0), and is also referred to as 1,3,5,7-tetraazaadamantanemethenamine; HMT; HMTA; 1,3,5,7- tetraazatricyclo {3.3.1.13,7} decane; 1,3,5,7-tetraaza adamantane; hexamethylenamine. Hexamine has the chemical formula C6H12N4.

Granular hexamine that has been blended with other product(s) is included in this scope when the resulting mix contains 50 percent or more of hexamine by weight, regardless of whether it is blended with inert additives, co-reactants, or any additives that undergo self-condensation.

Subject merchandise includes merchandise matching the above description that has been processed in a third country, including by commingling, diluting, adding or removing additives, or performing any other processing that would not otherwise remove the merchandise from the scope of the Orders if performed in the subject country.

Merchandise covered by the scope of these orders can be classified in the Harmonized Tariff Schedule (HTSUS) of the United States under the subheading 2933.69.5000. The HTSUS subheading and Chemical Abstracts Service registry number are provided for convenience and customs purposes only; however, the written description of the scope is dispositive.

[FR Doc. 2025-17525 Filed 9-10-25; 8:45 am]

BILLING CODE 3510-DS-P